DEPARTMENT OF LABOR

Employment and Training Administration

[TA-W-53,323]

Franklin Electric Company, Inc., Motor Components Division, Jonesboro, IN; Notice of Revised Determination on Reconsideration

By application of December 24, 2003, a petitioner requested administrative reconsideration regarding the Department's Negative Determination Regarding Eligibility to Apply for Worker Adjustment Assistance, applicable to the workers of the subject firm.

The initial investigation resulted in a negative determination issued on November 18, 2003, based on the finding that imports of lead wire did not contribute importantly to worker separations at the subject plant and that a shift in production of motors from the subject facility to Mexico has not affected employment of workers at the subject firm. The denial notice was published in the Federal Register on December 29, 2003 (68 FR 74978).

To support the request for reconsideration, the petitioner supplied additional information to supplement that which was gathered during the initial investigation. Upon further review and contact with a company official, it was revealed that the workers at the subject facility are engaged in the production of electric motors and electric wires and they are not separately identifiable by the product line. It was also revealed that the subject firm shifted its production of electric motors to Mexico during the relevant period and is currently implementing a shift in production of electric wires to Mexico. There was a significant decline in employment during the period under investigation.

Conclusion

After careful review of the facts obtained in the investigation, I determine that there was a shift in production from the workers' firm or subdivision to Mexico of articles that are like or directly competitive with those produced by the subject firm or subdivision, and there has been or is likely to be an increase in imports of like or directly competitive articles. In accordance with the provisions of the Act, I make the following certification:

All workers of Franklin Electric Company, Inc., Motor Components Division, Jonesboro, Indiana who became totally or partially separated from employment on or after October 16, 2002 through two years from the date of certification are eligible to apply for adjustment assistance under Section 223 of the Trade Act of 1974.

Signed in Washington, DC this 25th day of February 2004.
Elliott S. Kushner,
Certifying Officer, Division of Trade Adjustment Assistance.

[FR Doc. 04-5610 Filed 3-11-04; 8:45 am]

BILLING CODE 4510-30-P